ENVIRONMENTAL PROTECTION AGENCY

[EPA-HQ-OAR-2020-0666; FRL-9725-01-OMS]

Information Collection Request Submitted to OMB for Review and Approval; Comment Request; NSPS for Stationary Compression Ignition Internal Combustion Engines (Renewal)

AGENCY: Environmental Protection Agency (EPA).

ACTION: Notice.

SUMMARY: The Environmental Protection Agency (EPA) has submitted an information collection request (ICR), NSPS for Stationary Compression Ignition Internal Combustion Engines (EPA ICR Number 2196.07, OMB Control Number 2060-0590), to the Office of Management and Budget (OMB) for review and approval in accordance with the Paperwork Reduction Act. This is a proposed extension of the ICR, which is currently approved through May 31, 2022. Public comments were previously requested, via the Federal Register (86 FR 8634), on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before June 2, 2022.

ADDRESSES: Submit your comments, referencing Docket ID Number EPA-HQ-OAR-2020-0666, to EPA online using https://www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be confidential business information or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The New Source Performance Standards (NSPS) for Stationary Compression Ignition Internal Combustion Engines (40 CFR part 60, subpart IIII) regulations apply to manufacturers, owners, and operators of new stationary compression ignition internal combustion engines. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: Form 5900-558.

Respondents/affected entities: Manufacturers, owners, and operators of new stationary compression ignition internal combustion engines.

Respondent's obligation to respond: Mandatory (40 CFR part 60, subpart IIII).

Estimated number of respondents: 207,240 (total).

Frequency of response: Annually.

Total estimated burden: 408,000 hours (per year). Burden is defined at 5 CFR 1320.3(b).

Total estimated cost: $48,400,000 (per year), which includes $242,000 in annualized capital/startup and/or operation & maintenance costs.

Changes in the Estimates: There is no significant change in burden from the most-recently approved ICR. The change in burden is primarily due to an increase in the total number of sources and correction of calculation errors in the most-recently approved ICR. First, the number of respondents was updated to reflect new respondents based on continuous growth within the stationary CI engine industry. However, this ICR also corrects errors from the currently- approved ICR, including the number of manufacturers conducting certification recordkeeping and the total number of stationary CI engines. The number of manufacturers conducting certification recordkeeping has been adjusted downwards to reflect that this applies to those engine families for which manufacturers are requesting certification annually. The total number of stationary CI engines is adjusted to reflect growth that was not incorporated in the currently approved ICR, and more accurately reflects the number of respondents submitting an annual report. Due to these adjustments, there is an overall decrease in burden, although the rounded burden hours have not changed from the prior ICR. There was no change in capital costs. This ICR also adjusts the operation and maintenance costs to reflect more accurately the cost assumptions for certification activities, based on documentation from the final rules and as applied to the current estimate of respondents. The overall result is an increase in costs.

Courtney Kerwin,
Director, Regulatory Support Division.

[FR Doc. 2022-09411 Filed 5-2-22; 8:45 am]

BILLING CODE 6560-50-P